OFFICE OF THE UNITED STATES TRADE REPRESENTATIVE

[Docket No. USTR-2008-0036]

Review of Action Taken in Connection With WTO Dispute Settlement Proceedings on the European Communities' Measures Concerning Meat and Meat Products

AGENCY: Office of the United States Trade Representative.

ACTION: Request for comments.

SUMMARY: The interagency section 301 Committee is soliciting written comments on possible modifications to the action taken by the United States Trade Representative (“Trade Representative”) in connection with the World Trade Organization (“WTO”) authorization in the EC-Beef Hormones dispute to the United States to suspend concessions and related obligations with respect to the European Communities (“EC”). The EC-Beef Hormones dispute concerned the EC's ban on the import of U.S. meat and meat products produced from animals treated with any of six hormones for growth promotion purposes. Annex I to this notice contains a list of EC products with respect to which the United States is currently imposing increased rates of duty (100 percent ad valorem) pursuant to the WTO's authorization. Annex II to this notice contains a list of potential alternative products under consideration for the imposition of increased duties. Comments are requested with respect to (i) whether products listed in Annex I should be removed from the list or remain on the list (and if a product remains on the list, whether the currently applied rate of duty should be increased), (ii) whether products listed in Annex II should be included on a revised list and be subjected to increased rates of duty, and (iii) the products of which member States of the EC should be subjected to increased rates of duty.

DATES: To be assured of consideration, comments should be submitted by 5 p.m. on December 8, 2008.

ADDRESSES: Comments should be submitted (i) electronically via the Internet at http://www.regulations.gov, or (ii) by fax to Sandy McKinzy at (202) 395-3640. For documents sent by fax, USTR requests that the submitter provide a confirmation copy to http://www.regulations.gov.

FOR FURTHER INFORMATION CONTACT: Gwendolyn Diggs, Staff Assistant to the section 301 Committee, (202) 395-5830, for questions concerning procedures for filing submissions in response to this notice; Roger Wentzel, Director, Agricultural Affairs, (202) 395-6127 or David Weiner, Director for the European Union, (202) 395-4620 for questions concerning the EC-Beef Hormones dispute; or William Busis, Associate General Counsel (202) 395-3150 and Chair of the Section 301 Committee, for questions concerning procedures under Section 301. For further information on using the http://www.regulations.gov Web site, please consult the resources provided on the Web site by clicking on “How to Use This Site” on the left side of the home page.

SUPPLEMENTARY INFORMATION:

A. The EC-Beef Hormones Case

The EC bans the import of beef and beef products produced from animals to which any of six hormones ¹ have been administered for growth promotion purposes. The effect of the EC ban is to prohibit the import of substantially all U.S.-produced beef and beef products. In February 1998, the WTO Dispute Settlement Body (“DSB”) found that the EC ban was inconsistent with EC obligations under the WTO Agreement. In July 1999, a WTO arbitrator determined that the EC import ban on U.S. beef and beef products has nullified or impaired U.S. benefits under the WTO Agreement in the amount of $116.8 million each year. On July 26, 1999, the DSB authorized the United States to suspend the application to the EC, and member States thereof, of WTO tariff concessions and related obligations covering trade in an amount of $116.8 million per year. Pursuant to that authorization, the Office of the United States Trade Representative (“USTR”) announced a list of EC products, reprinted in Annex I to this notice, that would be subject to a 100 percent rate of duty effective with respect to products entered, or withdrawn from warehouse, for consumption on or after July 29, 1999. (See 64 FR 40638.)

Since that time, the United States and the EC have continued to consult in an effort to resolve this dispute.

¹ The six hormones at issue are estradiol 17-β, testosterone, progesterone, zeranol, trenbolone acetate (“TBA”) and melengestrol acetate (“MGA”).

The EC argues that EC legislation of 2003 implementing the import ban on beef and beef products produced from animals treated with certain hormones brought the EC into compliance with its WTO obligations. In January 2005, the EC requested the establishment of a WTO dispute settlement panel to consider the EC claim that the United States was no longer authorized to suspend concessions as a result of the EC's adoption of the new legislation implementing the import ban. (See 70 FR 8655 for a description of this dispute brought by the EC.)

On October 16, 2008, the WTO Appellate Body issued a report rejecting the EC claim and confirming that the July 1999 DSB authorization to suspend concessions remains in effect unless and until the DSB adopts a report finding that the EC has brought its measures into compliance with WTO obligations.

B. Section 306 of the Trade Act of 1974, as Amended

Section 306(b)(2)(B) of the Trade Act provides for the periodic review and revision of section 301 actions taken in the course of a WTO dispute settlement proceeding. Section 306(b)(2)(B)(ii) provides exceptions in the event that (1) the USTR and the section 301 petitioner (or, if USTR self-initiated the section 301 investigation, the affected U.S. industry) agree that changing the action under section 301 is unnecessary, or (2) resolution of the case is imminent. Section 306 provides that the standard for revising actions is to select changes that are most likely to result in implementation of the DSB recommendations, or in achieving some other satisfactory resolution of the dispute. The provision also requires that lists of products subject to increased duties—both initially and after each of the periodic changes—include reciprocal goods of the U.S. industries affected by the measure at issue in the WTO dispute.

The USTR and the affected U.S. industry have agreed that changes in the action taken under section 301 in connection with the EC-Beef Hormones dispute have been unnecessary; accordingly, the exception under section 306(b)(2)(B) is currently in effect.

As noted, on October 16, 2008, the WTO Appellate Body issued a report confirming that DSB authorization to suspend concessions remains in effect. No further WTO findings in this dispute are expected in the immediate future. In these circumstances, and as reflected in this notice, the Trade Representative is now considering revisions to the action taken in connection with the EC-Beef Hormones dispute and is revisiting the increased duties to ascertain whether any modifications are necessary or appropriate. Neither the publication of this notice, nor a possible decision by the Trade Representative to revise the prior action, should be construed as a determination with respect to whether or not the EC legislation of 2003 implementing the import ban on beef and beef products is consistent with WTO rules.

C. Section 307 of the Trade Act of 1974, as Amended

Section 307 of the Trade Act of 1974, as amended, provides for a review of actions taken under section 301, including actions taken in connection with a WTO dispute settlement proceeding. In particular, section 307 provides for the Trade Representative to conduct a review of—

(A) The effectiveness in achieving the objectives of section 301 of—

(i) Such action, and

(ii) Other actions that could be taken (including actions against other products or services), and

(B) The effects of such actions on the U.S. economy, including consumers.

D. Request for Public Comments

In order to assist in a possible revision to the action in accordance with section 306 of the Trade Act, and to provide information in connection with a review under section 307 of the Trade Act, the section 301 Committee seeks public comments with respect to the specific products on the lists in the Annexes to this notice. Annex I consists of products, which were drawn from the list in Annex II, currently subject to 100 percent duties in connection with the EC-Beef Hormones dispute. Annex II contains a list of alternative products under consideration for the possible imposition of increased duties.

Concerning the products listed in Annex I, the section 301 Committee invites comments with respect to whether particular products should be removed from the list or should remain on the list, and if a product remains on the list, whether the current 100 percent rate of duty is sufficiently high to achieve the objectives of encouraging a satisfactory resolution of the dispute. Concerning products listed in Annex II that are not currently subject to 100 percent duties, the section 301 Committee invites comments with respect to whether particular products should be included on a revised list and thus be subject to increased duties, and with respect to the rate of duty that would be best suited to the objective of encouraging a satisfactory resolution of the dispute.

The comments sought by the section 301 Committee with respect to particular products should address: (i) Whether maintaining or imposing increased duties on a particular product would be practicable or effective in terms of encouraging a favorable resolution of the dispute, and (ii) whether maintaining or imposing increased duties on a particular product would cause disproportionate economic harm to U.S. interests, including small-or medium-size businesses and consumers. In addition, the section 301 Committee requests comments on whether actions with respect to particular products should be taken with respect to products of all member States of the European Communities, or whether action should be taken with respect to products of one or more particular member States of the European Communities. The European Communities currently has 27 member States: Austria, Belgium, Bulgaria, Cyprus, the Czech Republic, Denmark, Estonia, Finland, France, Germany, Greece, Hungary, Ireland, Italy, Latvia, Lithuania, Luxembourg, Malta, the Netherlands, Poland, Portugal, Romania, Slovakia, Slovenia, Spain, Sweden, and the United Kingdom.

In the annexed product lists, the items with respect to which comments are requested are (1) classified in the indicated headings or subheadings of the Harmonized Tariff Schedule of the United States (“HTS”); and (2) the product of the indicated member States of the European Communities. The product descriptions in the annexes are for information purposes only; the product descriptions are not intended to delimit in any way the scope of products that are the subject of this notice. Rather, the numerical headings and subheadings of the HTS listed in the annexes govern the scope of this notice. In the instances where a 4-digit HTS heading appears in the left column of the lists, comments are requested with respect to any of the products classified in any of the 8-digit subheadings appearing in the HTS indented under those 4-digit headings.

To be assured of consideration, written comments should be submitted by 5 p.m. on December 8, 2008.

To submit comments via http://www.regulations.gov, enter docket number USTR-2008-0036 on the home page and click “go”. The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page.)

The http://www.regulations.gov site provides the option of providing comments by filling in a “General Comments” field, or by attaching a document. Given the detailed nature of the comments sought by the section 301 Committee, it is expected that most comments will be provided in an attached document. If a document is attached, it is sufficient to type “See attached” in the “General Comments” field.

Submissions must include on the first page a clear reference in bold and/or underlining to the HTS number(s) and product(s) which are the subject of the submission. Submissions must state clearly the position taken and describe with specificity the supporting rationale and must be written in English.

Comments will be placed in the docket and open to public inspection pursuant to 15 CFR 2006.13, except confidential business information exempt from public inspection in accordance with 15 CFR 2006.15 or information determined by USTR to be confidential in accordance with 19 U.S.C. 2155(g)(2). Comments may be viewed on the http://www.regulations.gov Web site by entering docket number USTR-2008-0036 in the search field on the home page.

Persons wishing to submit business confidential information must certify in writing that such information is confidential in accordance with 15 CFR 2006.15(b), and such information must be clearly marked “BUSINESS CONFIDENTIAL” at the top and bottom of the cover page and each succeeding page. Any comment containing business confidential information must be accompanied by a non-confidential summary of the confidential information. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

The non-confidential summary will be placed in the docket and open to public inspection.

William L. Busis,
Chair, Section 301 Committee.

BILLING CODE 3190-W9-P

[FR Doc. E8-26545 Filed 11-5-08; 8:45 am]

BILLING CODE 3190-W9-C